DEPARTMENT OF COMMERCE

International Trade Administration

[A-570-831]

Fresh Garlic From the People's Republic of China; Initiation of New Shipper Review

AGENCY: Import Administration, International Trade Administration, Department of Commerce.

EFFECTIVE DATE: October 26, 2005.

SUMMARY: The Department of Commerce (the “Department”) has determined that a request for a new shipper review of the antidumping duty order on fresh garlic from the People's Republic of China (“PRC”), received in May 2005, meets the statutory and regulatory requirements for initiation. The period of review (“POR”) of this new shipper review is November 1, 2004, through April 30, 2005.

FOR FURTHER INFORMATION CONTACT: Ryan A. Douglas or Wendy Frankel, AD/CVD Operations, Office 8, Import Administration, International Trade Administration, U.S. Department of Commerce, 14th Street and Constitution Avenue, NW, Washington, DC 20230; telephone: (202) 482-1277 and (202) 482-5849, respectively.

SUPPLEMENTARY INFORMATION:

Background

The notice announcing the antidumping duty order on fresh garlic from the PRC was published on November 16, 1994. See Antidumping Duty Order: Fresh Garlic From the People's Republic of China, 59 FR 59209 (November 16, 1994). On May 17, 2005, we received a timely request for a new shipper review from Anqiu Friend Food Co., Ltd. (“Anqiu Friend”) in accordance with 19 CFR 351.214(d)(2). Anqiu Friend has certified that it grew and exported the garlic on which it based its request for a new shipper review. The Department initially denied Anqiu Friend's request for a new shipper review in this case. However, as a result of litigation and agreement with the requester, the Department has reconsidered its decision and is now initiating the new shipper review.

Initiation of New Shipper Reviews

Pursuant to section 751(a)(2)(B)(i)(I) of the Tariff Act of 1930, as amended (“the Act”) and 19 CFR 351.214(b)(2), Anqiu Friend certified that it did not export fresh garlic to the United States during the period of investigation (“POI”). Pursuant to section 751(a)(2)(B)(i)(II) of the Act and 19 CFR 351.214(b)(2)(iii)(A), Anqiu Friend certified that, since the initiation of the investigation, it has never been affiliated with any exporter or grower who exported fresh garlic to the United States during the POI, including those not individually examined during the investigation. As required by 19 CFR 351.214(b)(2)(iii)(B), Anqiu Friend also certified that its export activities were not controlled by the central government of the PRC.

In addition to the certifications described above, the exporter submitted documentation establishing the following: (1) the date on which it first shipped fresh garlic for export to the United States and the date on which the fresh garlic was first entered, or withdrawn from warehouse, for consumption; (2) the volume of its first shipment and the volume of subsequent shipments; and (3) the date of its first sale to an unaffiliated customer in the United States.

Pursuant to section 751(a)(2)(B) of the Act and 19 CFR 351.214(d)(1), we are initiating this new shipper review for shipments of fresh garlic from the PRC grown and exported by Anqiu Friend. See Memorandum to the File through Wendy Frankel, “New Shipper Initiation Checklist,” dated October 12, 2005.

The POR is November 1, 2004, through April 30, 2005. See 19 CFR 351.214(g)(1)(i)(B). We intend to issue preliminary results of these reviews no later than 180 days from the date of initiation, and final results of these reviews no later than 270 days from the date of initiation. See section 751(a)(2)(B)(iv) of the Act.

Because Anqiu Friend has certified that it grew and exported the fresh garlic on which it based its request for a new shipper review, we will instruct U.S. Customs and Border Protection to allow, at the option of the importer, the posting of a bond or security in lieu of a cash deposit for each entry of fresh garlic both grown and exported by Anqiu Friend until the completion of the new shipper review, pursuant to section 751(a)(2)(B)(iii) of the Act. Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: October 20, 2005.
Joseph A. Spetrini,
Acting Assistant Secretary for Import Administration.

[FR Doc. E5-5951 Filed 10-25-05; 8:45 am]

BILLING CODE 3510-DS-S